DEPARTMENT OF THE INTERIOR

Bureau of Indian Affairs

Plan for the Use and Distribution of Assiniboine and Sioux Tribes of the Fort Peck Reservation Judgment Funds in Docket No. 773-87L

AGENCY: Bureau of Indian Affairs, Interior.

ACTION: Notice.

SUMMARY: Notice is hereby given that the plan for the use and distribution of the Tribe's portion of the judgment funds awarded in Assiniboine and Sioux Tribes of the Fort Peck Reservation, et al. v. U.S., Docket No. 773-87L is effective as of May 29, 2004. On March 18, 1999, $4,522,551.84 was appropriated to satisfy an award that was made by the United States Court of Federal Claims to the Tribe and individual Indian plaintiffs in Docket No. 773-87L. A percentage of the Tribe's portion of the aggregate award was transferred to a separate tribal trust fund account on February 14, 2001. The Tribe will most likely receive additional payments from the aggregate award once the identification of all individuals eligible to share in the aggregate award is complete and the pro rata shares are calculated. This plan pertains to the Tribe's portion ($643,186.73) of the aggregate award and any additional funds the Tribe may receive from the aggregate award fund.

FOR FURTHER INFORMATION CONTACT: Daisy West, Bureau of Indian Affairs, Division of Tribal Government Services, Mail Stop 320-SIB, 1951 Constitution Avenue, NW., Washington, DC 20240. Telephone number: (202) 513-7641.

SUPPLEMENTARY INFORMATION: On March 23, 2004, the plan for the use and distribution of the funds was submitted to Congress pursuant to section 137 of the Act of November 10, 2003, Pub. L. 108-108, 117 Stat. 1241, and the Indian Tribal Judgment Fund Act, 25 U.S.C. 1401 et seq. Receipt of the plan by the House of Representatives and the Senate was recorded in the Congressional Record on March 29, 2004. The plan became effective on May 29, 2004, because a joint resolution disapproving it was not enacted. The plan reads as follows:

Plan

For the Use and Distribution of Assiniboine and Sioux Tribes of the Fort Peck Reservation Judgment Funds Docket No. 773-87-L

This plan governs the use and distribution of the Tribe's share of the judgment funds awarded by the United States Court of Federal Claims (Court) to the Assiniboine and Sioux Tribes of the Fort Peck Reservation (Tribe), et al., in Docket No. 773-87-L. It also governs any additional funds the Court may award to the Tribe in Docket No. 773-87-L, including interest and investment income accrued on the award, less attorney fees and litigation expenses.

Tribal Programming

One hundred percent (100%) of the funds shall be made available for tribal health, education, housing and social services programs of the Tribe. Accounts shall be established for the following programs and funds shall be transferred to those accounts in the specified amounts—

1. Educational and Youth Programs | $86,500
2. Facilities and Housing Improvement | 150,000
3. Equipment for Public Utilities | 136,168
4. Medical Assistance/Dental/Eyeglasses/Convalescent Equipment | 126,000
5. Senior Citizens/Community Services | 160,000
Total | 658,668

All funds in excess of $658,668, and any funds added to the trust fund account as the result of further court proceedings in Docket No. 773-87-L, shall be utilized for the Senior Citizens/ Community Services programs. None of these funds shall be available for per capita distribution to any member of the Tribe.

General Provisions

None of the funds distributed under this plan shall be subject to Federal or State income taxes, nor shall such funds nor their availability be considered as income or resources nor otherwise utilized as the basis for denying or reducing the financial assistance or other benefits to which such household or member would otherwise be entitled under the Social Security Act, or any Federal or federally assisted programs.

Dated: October 21, 2004.
Michael D. Olsen,
Acting Principal Deputy Assistant Secretary—Indian Affairs.

[FR Doc. 04-25047 Filed 11-9-04; 8:45 am]

BILLING CODE 4310-4J-P